DEPARTMENT OF HEALTH AND HUMAN SERVICES

Administration for Children and Families

Proposed Information Collection Activity; Comment Request

Proposed Projects

Title: (1) TANF Data Report, ACF-199; (2) SSP-MOE Data Report, ACF-209.

OMB No.: 0970-0199.

Description: States, the District of Columbia and certain U.S. territories are required by 42 U.S.C. 611 and 45 CFR part 265 to collect on a monthly basis and report to HHS on a quarterly basis a wide variety of disaggregated case record information for their programs funded under TANF. If a respondent wants to qualify for a high performance bonus or receive a caseload reduction credit, the respondent must submit similar data for its separate state programs. A respondent may comply with these requirements by collecting and submitting case record information for its entire caseload or for a portion of the caseload that is obtained through the use of scientifically acceptable sampling methods. HHS collects the information electronically through the use of the TANF Data Report (ACF-199) and the SSP-MOE Data Report (ACF-209) and their associated TANF Sampling and Statistical Methods Manual. HHS is proposing to extend this information collection for another three years.

Respondents: The 50 States of the United States, the District of Columbia, Guam, Puerto Rico, and the United States Virgin Islands.

Annual Burden Estimates
Instrument | Number of respondents | Number of responses per respondent | Average burden hours per response | Total burden hours
TANF Data Report, ACF-199 | 54 | 4 | 2,193.74 | 473,848
SSP-MOE Data Report | 17 | 4 | 1,662 | 113,016
Estimated Total Annual Burden Hours | 586,864

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 10, 2003.
Robert Sargis,
Reports Clearance Officer.

[FR Doc. 03-3856 Filed 2-14-03; 8:45 am]

BILLING CODE 4184-01-M